DEPARTMENT OF COMMERCE

International Trade Administration

Proposed Information Collection; Comment Request; Implementation of Tariff Rate Quota Established Under Title V of the Trade and Development Act of 2000 as Amended, for Imports of Certain Worsted Wool

AGENCY: International Trade Administration (ITA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 27, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Request for additional information or copies of the information collection instrument and instructions should be directed to: Robert Carrigg, Office of Textiles and Apparel, Room 3119, 14th & Constitution Avenue, NW., Washington, DC 20230; Phone number: (202) 482-2573 and fax number: (202) 482-0667.

SUPPLEMENTARY INFORMATION:

I. Abstract

Title V of the Trade and Development Act of 2000 (“the Act”) as amended by the Trade Act of 2002, the Miscellaneous Trade Act of 2004, the Pension Protection Act of 2006, and the Emergency Economic Stabilization Act of 2008 contains several provisions to assist the wool products industries. These include the establishment of tariff rate quotas (TRQ) for a limited quantity of worsted wool fabrics. On December 1, 2000, the President issued Proclamation 7383 which delegated authority to the Secretary of Commerce to allocate the TRQ and to issue regulations to implement these provisions. On January 22, 2001, the Department of Commerce (DOC) published regulations establishing procedures for allocation of the tariff rate quotas (66 FR 6459, 15 CFR 335).

Section 501(e) of the Act restricts allocation of imports subject to the TRQ to persons “who cut and sew men's and boys' worsted wool suits and suit-like jackets and trousers in the United States and who apply for an allocation based on the amount of such suits cut and sewn during the prior calendar year.” Information must be collected each year from applicants to ensure they meet this requirement and to determine their fair share of the TRQ. The DOC will process this information and issue a license to each eligible person. The license will specify the amount of TRQ granted to each licensee. The applicant shall retain records substantiating the information provided in the TRQ license application for a period of 3 years; and must be made available upon request by an appropriate government official.

The Reallocation of Tariff Rate Quota process states not later than September 30 of each TRQ year, a licensee who will not import the full quantity granted in a license during the TRQ year shall surrender the allocation that will not be used to DOC for purposes of reallocation through a written or electronic notice, including the license control number and the amount being surrendered. The surrender shall be final, and shall apply only to that TRQ year. DOC will notify licensees of any amount surrendered and the application period for requests for reallocation. A licensee that imported, or intends to import, a quantity exceeding the quantity set forth in its license may apply (state the maximum amount of additional allocation the applicant will be able to use) to receive additional allocation from the amount to be reallocated.

II. Method of Collection

Forms are available on the Internet and by mail to requesting firms.

III. Data

OMB Control Number: 0625-0240.

Form Number(s): ITA-4139 and ITA-4140P.

Type of Review: Regular submission.

Affected Public: Business or other for-profit organizations.

Estimated Number of Respondents: 20.

Estimated Time per Response: Application process, 3 hours; and reallocation request, 1 hour.

Estimated Total Annual Burden Hours: 160.

Estimated Total Annual Costs: $5,400

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: July 22, 2010.
Gwellnar Banks,
Management Analyst, Office of the Chief Information Officer.

[FR Doc. 2010-18345 Filed 7-26-10; 8:45 am]

BILLING CODE 3510-DR-P